DEPARTMENT OF HEALTH AND HUMAN SERVICES

National Institutes of Health

National Institute of Mental Health; Notice of Meeting

Notice is hereby given of a town hall meeting convened by the Services Subcommittee of the Interagency Autism Coordinating Committee (IACC). This town hall meeting will be open to the public, with attendance limited to space availability; interested individuals are encouraged to register early to secure a space. The format of the meeting will be a 30 minute presentation by members of the IACC, followed by an open microphone session in which comments may be shared on the topics listed below related to services for people with ASD or other related topics. The meeting will be remotely accessible by videocast. Individuals who plan to attend and need special assistance, such as sign language interpretation or other reasonable accommodations, should inform the Contact Person listed below at least 5 business days in advance of the meeting.

Written comments are welcome in advance of, during and after the meeting until July 31, 2009, at iaccservices@mail.nih.gov. Written comments received before or during the meeting may be shared with the meeting audience by the moderators as time permits.

Name of Committee: Services Subcommittee of the Interagency Autism Coordinating Committee (IACC).

Date: July 24, 2009.

Time: 10:45 a.m. to 2 p.m., Central Time.

Agenda: A Town Hall Meeting where the public may share comments, feedback and questions regarding services for people with ASD and their families. Topics of particular interest include: Questions 5 and 6 of the IACC Strategic Plan for ASD Research (http://iacc.hhs.gov/reports/2009/iacc-strategic-plan-for-autism-spectrum-disorder-research-jan26.shtml): “Where can I turn for services?” and “What does the future hold?” Additional suggested topics: Services for adults, community issues, family support, school services, provider issues, infrastructure, evidence-based services and supports, health and safety, early diagnosis, transition to adulthood, therapies and treatments, and health and dental care.

Place:

In Person: 2009 Autism Society National Conference, Pheasant Run Resort and Spa, 4051 East Main Street, St. Charles, IL 60174, http://www.pheasantrun.com/, Phone: 1-800-4 PHEASANT (474-3272).

Videocast information as well as Web pre-registration will be available through the IACC Web site Meetings and Events page: http://iacc.hhs.gov/events/.

Contact Person: Ms. Lina Perez, Office of Autism Research Coordination, Office of the Director, National Institute of Mental Health, NIH, 6001 Executive Boulevard, Bethesda, MD 20892-9669, (301) 443-6040, IACCPublicInquiries@mail.nih.gov.

Information about the IACC and a registration link for this meeting are available on the IACC Web site: http://www.iacc.hhs.gov.

Dated: July 1, 2009.
Jennifer Spaeth,
Director, Office of Federal Advisory Committee Policy.

[FR Doc. E9-16206 Filed 7-8-09; 8:45 am]

BILLING CODE 4140-01-P